OFFICE OF THE UNITED STATES TRADE REPRESENTATIVE

Membership of the Performance Review Board (PRB)

AGENCY: Office of the United States Trade Representative.

ACTION: Notice.

SUMMARY: The following staff members have been appointed to serve on the Performance Review Board:

Performance Review Board (PRB)

Chair: Florizelle Liser

Alternate Chair: Barbara Weisel

Member: Christopher Wilson

Member: Lewis Karesh

Executive Secretary: Susan Buck

DATES: Effective Date: August 12, 2010.

FOR FURTHER INFORMATION CONTACT: Questions regarding this submission should be directed to Lorraine Green, Deputy Assistant U.S. Trade Representative for Administration and Director of Human Resources (202) 395-7360.

Lorraine Green,
Deputy Assistant U.S. Trade Representative for Administration and Director of Human Resources.

[FR Doc. 2010-21371 Filed 8-26-10; 8:45 am]

BILLING CODE 3190-W0-P